DEPARTMENT OF COMMERCE

Foreign-Trade Zones Board

[B-74-2012]

Foreign-Trade Zone 176—Rockford, IL, Notification of Proposed Production Activity, AndersonBrecon Inc. (Medical Device Kitting), Rockford, IL

AndersonBrecon Inc. (AndersonBrecon) submitted a notification of proposed production activity for its facility in Rockford, Illinois. The notification conforming to the requirements of the regulations of the Board (15 CFR 400.22) was received on October 12, 2012.

The AndersonBrecon facility is located within Site 1 of FTZ 176. The facility is used for kitting and related activity by AndersonBrecon on behalf of Ferrosan Medical Devices A/S and Ethicon Inc. Production under FTZ procedures could exempt Ferrosan Medical Devices A/S from customs duty payments on the foreign status components used in export production. On its domestic sales, Ferrosan Medical Devices A/S would be able to choose the duty rate during customs entry procedures that applies to SURGIFLO® Hemostatic Matrix Kits and SURGIFLO® Hemostatic Matrix Kits with Thrombin (duty-free) for the foreign status inputs noted below. Customs duties also could possibly be deferred or reduced on foreign status production equipment.

Components and materials sourced from abroad include: Sterile water in vials/non-needled syringes, hemostatic gelatin matrix pouches, vial adapters and lyophilized thrombin (duty rate ranges from duty-free to 6.5%).

Public comment is invited from interested parties. Submissions shall be addressed to the Board's Executive Secretary at the address below. The closing period for their receipt is November 28, 2012.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Elizabeth Whiteman at Elizabeth.Whiteman@trade.gov or (202) 482-0473.

Dated: October 15, 2012.
Elizabeth Whiteman,
Acting Executive Secretary.

[FR Doc. 2012-25840 Filed 10-18-12; 8:45 am]

BILLING CODE P